DEPARTMENT OF HEALTH AND HUMAN SERVICES

Centers for Disease Control and Prevention

[60Day-16-160544; Docket No. CDC-2016-0088]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on a proposed information collection plan entitled Evaluation of Effectiveness of NIOSH Publications: NIOSH Customer Satisfaction and Impact Survey.

DATES: Written comments must be received on or before November 18, 2016.

ADDRESSES: You may submit comments, identified by Docket No. CDC-2016-0088 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Evaluation of Effectiveness of NIOSH Publications (OMB Control No. 0920-0544, Expired 4/30/2010)—Reinstatement with Change—National Institute for Occupational Safety and Health (NIOSH), Centers for Disease Control and Prevention (CDC).

Background and Brief Description

As mandated in the Occupational Safety and Health Act of 1970 (Pub. L. 91-596), the mission of the National Institute for Occupational Safety and Health (NIOSH) is to conduct research and investigations on work-related disease and injury and to disseminate information for preventing identified workplace hazards (Sections 20(a)(1) and (d), Attachment 1). NIOSH is proposing a two-year study to collect stakeholder feedback on the effectiveness of NIOSH products and their dissemination. This dual responsibility recognizes the need to translate research into workplace application if it is to impact worker safety and well-being.

NIOSH, through its communication efforts, seeks to promote greater awareness of occupational hazards and their control, influence public policy and regulatory action, shape national research priorities, change organizational practices and individual behavior, and ultimately, improve American working life. NIOSH's primary communication vehicle is its series of numbered publications catalogued by the Institute as Policy Documents, Technical Documents, and Educational Documents.

The aforementioned types of documents are available to the public through the use of mailing lists, NIOSH eNews, the NIOSH Web site, promotion at conferences, and by other means. In Fiscal Year 2015, combined digital downloads and hard copy distributions of NIOSH publications registered at over 790,000. Yet, these numbers tell little of whether the reports are reaching all of the appropriate audiences, or whether the information is perceived as credible and useful by the recipients. Therefore, a Customer Satisfaction Survey (CSS) was conducted in 2003 and a follow-up CSS in 2010 to assess customer satisfaction and perceived impact of NIOSH publications.

The proposed survey seeks to update the data collected for the 2010 survey (OMB Control No. 0920-0544) and gather data on outreach initiatives NIOSH has undertaken in recent years. The findings reported in 2010 confirmed that NIOSH continues to be a credible source of occupational safety and health information, NIOSH publications were being used more frequently than in previous years, and respondents are relying more on the NIOSH Web site and other electronic resources. With regard to having read or referred to a NIOSH product or resource in the past, 82% of the total respondents said they had, and responses grouped by organization—AAOHN (80%), ACOEM (71%), AIHA (90%), and ASSE (85%)—also show an increase. However, the 2010 CSS also revealed that the percentage of respondents who looked to NIOSH for OSH information dropped from 84% in 2003 to 76% in 2009 (when the 2010 survey data were collected).

Results from the 2010 CSS suggest that NIOSH needs to partner more with stakeholder associations to assess the needs of those in the OSH community who are not using NIOSH resources. Since then, NIOSH has established a partner database, which documents the private companies, professional associations, and labor unions listed as partners on various projects. Another recommendation is that NIOSH develop strategies to increase awareness of electronic resources and newsletters. NIOSH has since established additional notifications, such as the monthly Research Rounds (http://www.cdc.gov/niosh/research-rounds/) that highlights research conducted at NIOSH. There also is the NIOSH Science Blog (http://blogs.cdc.gov/niosh-science-blog/) with articles on NIOSH research, products, and timely topics of interest to workers, employers, and other stakeholders. The NIOSH Web site also has expanded its offerings of video and multimedia products.

The third recommendation from the 2010 survey was that NIOSH develop a broader range of tools that have direct application and provide clearer guidance on policy. In addition to being offered as a downloadable PDF document, the Pocket Guide to Chemical Hazards, NIOSH's most popular product, is being offered as a mobile app as well as a PDF document, both of which can be downloaded from the NIOSH Web site (http://www.cdc.gov/niosh/npg/). As a larger strategy that addresses the aforementioned recommendations, NIOSH launched a 5-year Web Plan that considers the direction of the Institute's work and reviews the history of the NIOSH Web. The plan identifies five key Web challenges NIOSH will experience in 2015-2019: Adapting web content for mobile web delivery, preparing for growth of digital products and dissemination, sustainability of new digital products, developing a future strategy for new communication products and technology, and addressing projected staffing needs. Various goals have been identified as critical to maintaining NIOSH Web effectiveness in the next five years.

The currently proposed Customer Satisfaction and Impact (CSI) Survey, is an effort by the agency to obtain current estimates of consumer use/benefit from NIOSH communication products as a whole, as well as to determine the adequacy of the agency's circulation/delivery practices in light of changing distribution approaches and technologies. The CSI will account for changes in NIOSH publications, digital product formats, and new dissemination channels emerging since survey data were last collected. The CSI will also solicit more audience-based information that reflects the new media environment in which many NIOSH publications are offered. Such expansions will yield findings that show how well customer service practices at NIOSH have followed the 2003 and 2010 recommendations, as well as provide insights into how users seek and use NIOSH information in the current digital environment.

The survey will be directed to the community of occupational safety and health (OSH) professionals as well as business and trade association intermediaries as this audience represents the primary and traditional customer base for NIOSH information materials. Intermediaries use their connections to small businesses and other organizations to disseminate information to stakeholders who might not otherwise receive it. Intermediaries include occupational health service providers, labor organizations, chambers of commerce, and insurance companies.

NIOSH estimates that it will take 315 total burden hours to complete information collections, compared to 204 burden hours estimated for the 2010 CSS. There are no costs to the respondents other than their time.

Customer Satisfaction and Impact (CSI) Survey:

Estimated Annualized Burden Hours
Type of respondents | Form name | Number of respondents | Number of responses per respondent | Average burden per response (in hrs.) | Total burden (in hrs.)
AIHA members | NIOSH Customer Satisfaction Survey—full version | 150 | 1 | 20/60 | 50
AIHA Members | NIOSH Customer Satisfaction Survey—full version | 150 | 1 | 5/60 | 13
AAOHN Members | NIOSH Customer Satisfaction Survey—full version Work, | 150 | 1 | 20/60 | 50
AAOHN Members | NIOSH Customer Satisfaction Survey—short version | 150 | 1 | 5/60 | 13
ACOEM members | NIOSH Customer Satisfaction Survey—full version | 150 | 1 | 20/60 | 50
ACOEM members | NIOSH Customer Satisfaction Survey—short version | 150 | 1 | 5/60 | 13
ASSE members | NIOSH Customer Satisfaction Survey—full version | 150 | 1 | 20/60 | 50
ASSE members | NIOSH Customer Satisfaction Survey—short version | 150 | 1 | 5/60 | 13
Other members* | NIOSH Customer Satisfaction Survey—full version | 150 | 1 | 20/60 | 50
Other members | NIOSH Customer Satisfaction Survey—short version | 150 | 1 | 5/60 | 13
Total |  |  |  |  | 315

Leroy A. Richardson,
Chief, Information Collection Review Office, Office of Scientific Integrity, Office of the Associate Director for Science, Office of the Director, Centers for Disease Control and Prevention.

[FR Doc. 2016-22447 Filed 9-16-16; 8:45 am]

BILLING CODE 4163-18-P